DEPARTMENT OF THE INTERIOR

Fish and Wildlife Service

[FWS-R9-ES-2011-N067; 92220-1113-0000-C3]

Information Collection Sent to the Office of Management and Budget (OMB) for Approval; Endangered and Threatened Wildlife, Experimental Populations

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on March 31, 2011. We may not conduct or sponsor and a person is not required to respond to a collection of information unless it displays a currently valid OMB control number. However, under OMB regulations, we may continue to conduct or sponsor this information collection while it is pending at OMB.

DATES: You must submit comments on or before April 27, 2011.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, MS 2042-PDM, 4401 North Fairfax Drive, Arlington, VA 22203 (mail), or INFOCOL@fws.gov (e-mail). Please include 1018-0095 in the subject line of your comments.

FOR FURTHER INFORMATION CONTACT: To request additional information about this ICR, contact Hope Grey at INFOCOL@fws.gov (e-mail) or 703-358-2482 (telephone). You may review the ICR online at http://www.reginfo.gov. Follow the instructions to review Department of the Interior collections under review by OMB.

SUPPLEMENTARY INFORMATION: OMB Control Number: 1018-0095.

Title: Endangered and Threatened Wildlife, Experimental Populations, 50 CFR 17.84.

Service Form Number(s): None.

Type of Request: Extension of a currently approved collection.

Description of Respondents: Individuals and households, private sector, and State/local/Tribal governments.

Respondent's Obligation: Voluntary.

Frequency of Collection: On occasion.

Estimated Annual Number of Respondents: 101.

Estimated Annual Number of Responses: 101.

Completion Time per Response: 15 minutes.

Total Annual Burden Hours: 27.

Abstract: Section 10(j) of the Endangered Species Act of 1973 (ESA), as amended (16 U.S.C. 1531 et seq.), authorizes the Secretary of the Interior to establish experimental populations of endangered or threatened species. Because individuals of experimental populations are categorically protected under the ESA, the information we collect is important for monitoring the success of reintroduction efforts and recovery efforts in general. This is a nonform collection. Information collection requirements for experimental populations of endangered and threatened species are in 50 CFR 17.84. We collect three categories of information:

(1) General take or removal. Relates to human-related mortality including unintentional taking incidental to otherwise lawful activities (e.g., highway mortalities); animal husbandry actions authorized to manage the population (e.g., translocation or providing aid to sick, injured, or orphaned individuals); take in defense of human life; take related to defense of property (if authorized); or take in the form of authorized harassment.

(2) Depredation-related take. Involves take for management purposes where livestock depredation is documented, and may include authorized harassment or authorized lethal take of experimental animals in the act of attacking livestock.

(3) Specimen collection, recovery, or reporting of dead individuals. This information documents incidental or authorized scientific collection. Most of the contacts with the public deal primarily with the reporting of sightings of experimental population animals or the inadvertent discovery of an injured or dead individual.

The information that we collect includes:

• Name, address, and phone number of reporting party.

• Species involved.

• Type of incident.

• Take (quantity).

• Location and time of the reported incident.

• Description of the circumstances related to the incident.

This information helps us to assess the effectiveness of control activities and to develop better means to reduce problems with livestock for those species where depredation is a problem. Service recovery specialists use the information to determine the success of reintroductions in relation to established recovery plan goals for the threatened and endangered species involved.

Comments: On November 3, 2010, we published in the Federal Register (75 FR 67761) a notice of our intent to request that OMB renew approval for this information collection. In that notice, we solicited comments for 60 days, ending on January 3, 2011. We received information from two commenters in response to this notice.

The first commenter objected to the authorization of depredation-related take. We note the concerns raised by this individual, but the comment did not address issues surrounding the proposed collection of information or the cost and hour burden estimates.

The second commenter provided the following comments:

Comment: The estimated burden for collection of information is severely underestimated. The commenter agreed that the actual reporting time is probably only 15 minutes per respondent, but stated that gathering data necessary to compile the reported information requires far more time, and may require a field investigation or followup phone call to verify the report.

Response: We believe our estimates are within reason because they represent the average amount of time it will take to provide the requested information via making a telephone call or sending a facsimile. This ICR covers multiple experimental populations, multiple species (which may have more than one experimental population), multiple types of activities, multiple geographic locations across the United States, and multiple Service Regions. We estimate that the time required to provide the notification will vary substantially from 1 to 45 minutes. We acknowledge that it may take some respondents, such as State fish and wildlife agencies, longer than others to gather and compile the data prior to notifying us. State fish and wildlife agencies may provide information to us on multiple species, experimental populations, and incidents in a single notification (thereby requiring more than 15 minutes for them to provide us with the information). In contrast to State fish and wildlife agencies, the general public usually provides information on a single species, experimental population, and incident in one notification (thereby requiring substantially less than 15 minutes for them to provide us with the information). Given the variety of potential situations requiring notification, as well as the variety of potential respondents, we believe 15 minutes per response is a reasonable estimate of the average burden.

Comment: General sighting reports do not appear to be included in the three categories of information collection.

Response: General sightings are included in the description of the information collection for specimen collection.

Comment: The Service should design a standard data input form and evaluation descriptors for the reporting of visual information, allowing for adjustments in the form for each population as needed.

Response: We collect the information by means of telephone calls or facsimiles from the public. The actual details of the information we collect are unique to each species and experimental population, based on the specific information needed for that species and experimental population. The types of incidents that must be reported also vary by species. For example, under our wolf experimental populations, livestock depredation under a permit must be reported within 24 hours. We do not ask for this same information under our whooping crane experimental populations because whooping cranes are not predators, and, therefore, depredation permits are not needed. This ICR covers multiple experimental populations, multiple species (which may have more than one experimental population), multiple types of activities, multiple geographic locations across the United States, and multiple Service Regions. Given these complexities and variability in the detail of the information needed, it is not feasible to develop a standard data input form for each experimental population.

Comment: Sharing the data in summary form would increase the utility of the data.

Response: State wildlife agencies are our primary conservation partners, and we routinely share data with them (and vice versa), including the data gathered under this information collection.

Comment: Reporting take (quantity) could be burdensome for species that produce large numbers of young at a time (e.g., fish, amphibians, and butterflies). The commenter suggests standardizing the reporting of take (quantity) as a way to reduce the reporting burden for these species.

Response: We will coordinate with our Regional Offices and respondents to see if we can simplify and standardize the reporting of take (quantity) for species with large numbers of young.

We have not made any changes to our information collection requirements as a result of the above comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: March 22, 2011.
Tina A. Campbell,
Chief, Division of Policy and Directives Management, U.S. Fish and Wildlife Service.

[FR Doc. 2011-7190 Filed 3-25-11; 8:45 am]

BILLING CODE 4310-55-P